DEPARTMENT OF ENERGY

Federal Energy Regulatory Commission

[Docket No. EG03-68-000, et al.]

Katahdin Transmission, LLC, et al.; Electric Rate and Corporate Filings

June 17, 2003.

The following filings have been made with the Commission. The filings are listed in ascending order within each docket classification.

1. Katahdin Transmission, LLC

[Docket No. EG03-68-000]

Take notice that on June 12, 2003, Katahdin Transmission, LLC (KT LLC) filed with the Federal Energy Regulatory Commission (Commission) an Amendment to its Application for Determination of Exempt Wholesale Generator Status pursuant to section 365.5 of the Commission's regulations.

KT LLC states that it is a Delaware limited liability company that will own and simultaneously lease to Great Lakes Hydro America, LLC (GLHA), a company with exempt wholesale generator status, certain interests in equipment that will comprise a discrete portion of a new 115 kV interconnection project, which will, operationally, become part of an existing “eligible facility” owned and operated by GLHA in Millinocket and East Millinocket, Maine.

Comment Date: July 8, 2003.

2. PJM Interconnection, L.L.C.

[Docket No. ER02-1326-007]

Take notice that on June 12, 2003, in compliance with PJM Interconnection, L.L.C., 103 FERC § 61,167 (2003), PJM Interconnection, L.L.C. (PJM) submitted a compliance filing in which it redesignated sheets of the PJM Open Access Transmission Tariff and the Amended and Restated Operating Agreement of PJM Interconnection, L.L.C. to comply with Designation of Electric Rate Schedule Sheets, Order No. 614, 1996-2000 Stats. & Regs., Regs. Preambles § 31,096 (2002).

Copies of this filing have been served on all parties listed on the official service list compiled by the Secretary in this proceeding.

Comment Date: July 3, 2003.

3. Rayo Energy LLC

[Docket No. ER03-782-001]

Take notice that on June 11, 2003, Rayo Energy LLC (REL) tendered for filing with the Federal Energy Regulatory Commission (Commission) revisions to its application filed on April 29, 2003. REL states that revisions have been made to Attachment A, Original Rate Schedule FERC No. 1, Original Sheet No. 1, under the headings of Availability and Applicability. REL requests a shortened comment period for the revised filing.

Comment Date: June 23, 2003.

4. Commonwealth Edison Company

[Docket No. ER03-816-001]

Take notice that on June 11, 2003, Commonwealth Edison Company (ComEd) tendered for filing with the Federal Energy Regulatory Commission (Commission) an executed Service Agreement and executed Dynamic Scheduling Agreement entered into between ComEd and Alliant Energy under ComEd's Open Access Transmission Tariff (OATT). ComEd requests an effective date of April 1, 2003.

ComEd states that copies of the filing were served upon Alliant Energy, the Illinois Commerce Commission and Wisconsin Public Service Commission.

Comment Date: July 2, 2003.

5. Southern California Edison Company

[Docket No. ER03-950-000]

Take notice that on June 12, 2003, Southern California Edison Company (SCE) tendered for filing a Letter Agreement between SCE and The City of Azusa (Azusa).

SCE states that the purpose of the Letter Agreement is to provide an interim arrangement pursuant to which SCE will commence performance of the engineering, design, obtaining CPUC approval, procurement of equipment and material and construction of interconnection facilities capable of servicing 28 MW of wholesale Distribution Load.

SCE further states that copies of this filing were served upon the Public Utilities Commission of the State of California and Azusa.

Comment Date: July 3, 2003.

6. Moraine Wind LLC

[Docket No. ER03-951-000]

Take notice that on June 12, 2003, Moraine Wind LLC (Moraine Wind) filed with the Federal Energy Regulatory Commission (Commission ), pursuant to section 205 of the Federal Power Act, an Application for Order Accepting Initial Rate Schedule, which would allow Moraine Wind to engage in the sale of electric energy and capacity at market-based rates. Moraine Wind states that it is engaged in the business of developing, and will construct, own, and operate, a 51 MW wind power generation facility located in Murray and Pipestone counties, Minnesota. Moraine Wind states that it seeks certain waivers, blanket approvals, and authorizations under the Commission's regulations. Moraine Wind states that it also seeks waiver of the 60-day notice and 120-day prefiling requirements under 18 CFR 35.3.

Comment Date: July 3, 2003.

7. Maine Electric Power Company

[Docket No. ER03-952-000]

Take notice that on June 12, 2003, Maine Electric Power Company (MEPCO) tendered for filing a Notice of Termination of the Interconnection Support Agreement between MEPCO, Central Maine Power Company, and Bangor Hydro-Electric Company. MEPCO states that this interconnection support agreement is currently designated as FERC Rate Schedule No. 18. MEPCO further states that it seeks an effective termination date of January 1, 2003.

Comment Date: July 3, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-15921 Filed 6-23-03; 8:45 am]

BILLING CODE 6717-01-P